DEPARTMENT OF THE INTERIOR

National Park Service

[NPS-WASO-NAGPRA-NPS0034497; PPWOCRADN0-PCU00RP14.R50000]

Notice of Inventory Completion: Federal Bureau of Investigation, Art Theft Program, Washington, DC

AGENCY: National Park Service, Department of the Interior.

ACTION: Notice.

SUMMARY: In accordance with the Native American Graves Protection and Repatriation Act (NAGPRA), the Federal Bureau of Investigation has completed an inventory of human remains and associated funerary objects and has determined that there is no cultural affiliation between the human remains and any Indian Tribe. The human remains were removed from unknown locations in the United States.

DATES: Disposition of the human remains in this notice may occur on or after October 14, 2022.

ADDRESSES: Supervisory Special Agent (SSA) Randolph J. Deaton IV, Art Theft Program, 935 Pennsylvania Avenue NW, Washington, DC 20535, telephone (202) 324-5525, email artifacts@ic.fbi.gov.

SUPPLEMENTARY INFORMATION: This notice is published as part of the National Park Service's administrative responsibilities under NAGPRA. The determinations in this notice are the sole responsibility of the Federal Bureau of Investigation. The National Park Service is not responsible for the determinations in this notice. Additional information on the determinations in this notice, including the results of consultation, can be found in the inventory or related records held by the Federal Bureau of Investigation.

Description

On unknown dates, human remains representing, at minimum, 138 individuals were removed from unknown locations in South Dakota, New Mexico, Arizona, and Indiana. The human remains were unearthed by Indiana “collector” Don Miller and made part of his private collection of Native American antiquities and cultural heritage. In 2018, the human remains were seized as part of an FBI Investigation. No known individuals were identified. No associated funerary objects are present.

Aboriginal Land

The states from which the human remains in this notice were removed are, collectively, the aboriginal lands of one or more Indian Tribes. The following information was used to identify the aboriginal land: a final judgment of the Indian Claims Commission or the United States Court of Claims, a treaty, an Act of Congress, or an Executive Order.

Determinations

Pursuant to NAGPRA and its implementing regulations, and after consultation with the appropriate Indian Tribes, the Federal Bureau of Investigation has determined that:

• The human remains described in this notice represent the physical remains of 138 individuals of Native American ancestry.

• No relationship of shared group identity can be reasonably traced between the human remains and any Indian Tribe.

• The human remains described in this notice were removed from the aboriginal land of the Assiniboine and Sioux Tribes of the Fort Peck Indian Reservation, Montana; Cheyenne River Sioux Tribe of the Cheyenne River Reservation, South Dakota; Crow Creek Sioux Tribe of the Crow Creek Reservation, South Dakota; Flandreau Santee Sioux Tribe of South Dakota; Fort Sill Apache Tribe of Oklahoma; Gila River Indian Community of the Gila River Indian Reservation, Arizona; Hopi Tribe of Arizona; Lower Brule Sioux Tribe of the Lower Brule Reservation, South Dakota; Mescalero Apache Tribe of the Mescalero Reservation, New Mexico; Miami Tribe of Oklahoma; Oglala Sioux Tribe (previously listed as the Oglala Sioux Tribe of the Pine Ridge Reservation, South Dakota); Pokagon Band of Potawatomi Indians, Michigan and Indiana; Pueblo of Acoma, New Mexico; Pueblo of Jemez, New Mexico; Pueblo of Laguna, New Mexico; Pueblo of Picuris, New Mexico; Rosebud Sioux Tribe of the Rosebud Indian Reservation, South Dakota; Salt River Pima-Maricopa Indian Community of the Salt River Reservation, Arizona; Shawnee Tribe; Sisseton-Wahpeton Oyate of the Lake Traverse Reservation, South Dakota; Spirit Lake Tribe, North Dakota; Standing Rock Sioux Tribe of North & South Dakota; Three Affiliated Tribes of the Fort Berthold Reservation, North Dakota; Turtle Mountain Band of Chippewa Indians of North Dakota; and the Yankton Sioux Tribe of South Dakota.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after October 14, 2022. If competing requests for disposition are received, the Federal Bureau of Investigation must determine the most appropriate requestor prior to disposition. Requests for joint disposition of the human remains and associated funerary objects are considered a single request and not competing requests. The Federal Bureau of Investigation is responsible for sending a copy of this notice to the Indian Tribes identified in this notice.

Authority: Native American Graves Protection and Repatriation Act, 25 U.S.C. 3003, and the implementing regulations, 43 CFR 10.9 and § 10.11.

Dated: September 1, 2022.
Melanie O'Brien,
Manager, National NAGPRA Program.

[FR Doc. 2022-19829 Filed 9-13-22; 8:45 am]

BILLING CODE 4312-52-P